DEPARTMENT OF EDUCATION

National Assessment Governing Board

AGENCY: National Assessment Governing Board, U.S. Department of Education.

ACTION: Announcement of open and closed meetings.

SUMMARY: This notice sets forth the agenda for the August 2-4, 2018 Quarterly Board Meeting of the National Assessment Governing Board (hereafter referred to as Governing Board). This notice provides information to members of the public who may be interested in attending the meeting or providing written comments related to the work of the Governing Board. Notice of this meeting is required under § 10(a)(2) of the Federal Advisory Committee Act (FACA). This meeting notice is published late due to the fact that approval of the August Board meeting agenda required a quorum of the Board's Executive Committee which could not be established in time to provide timely notice in the Federal Register.

DATES: The Quarterly Board Meeting will be held on the following dates:

• August 2, 2018 from 9:00 a.m. to 6:00 p.m.

• August 3, 2018 from 8:30 a.m. to 5:00 p.m.

• August 4, 2018 from 7:30 a.m. to 12:00 p.m.

ADDRESSES: Park Hyatt Washington, 1201 24th Street NW, Washington, DC 20037.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Written comments may be submitted electronically or in hard copy to the attention of the Executive Officer/Designated Federal Official (see contact information noted above). Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

August 2-4, 2018: Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: August 2-4, 2018

August 2: Committee Meetings

Assessment Development Committee: Open Session: 9:00 a.m. to 9:15 a.m.; Closed Session: 9:15 a.m. to 12:05 p.m.; Open Session: 12:05 p.m. to 12:30 p.m.

Ad Hoc Committee on Measures of Postsecondary Preparedness: Open Session: 1:30 p.m. to 4:00 p.m.

Poster Gallery Session: Spotlight on NAEP Secondary Research (SV #1); Graduate Fellows: Open Session: 4:00 p.m. to 5:00 p.m.

Executive Committee: Open Session: 5:00 p.m. to 5:15 p.m.; Closed Session: 5:15 p.m. to 6:00 p.m.

August 3: Full Governing Board and Committee Meetings

Full Governing Board: Open Session: 8:30 a.m. to 9:15 a.m.; Closed Session: 12:15 p.m. to 1:30 p.m.; Open Session: 1:30 p.m. to 5:00 p.m.

Committee Meetings: 9:30 a.m. to 12:00 p.m.

Assessment Development Committee (ADC): Closed Session: 9:30 a.m. to 11:20 p.m. Open Session: 11:20 p.m. to 12:00 p.m.

Reporting and Dissemination (R&D): Open Session 9:30 a.m. to 12:00 p.m.

Committee on Standards, Design and Methodology (COSDAM): Open Session: 9:30 a.m. to 11:10 a.m.; Closed Session: 11:10 a.m. to 12:00 p.m.;

August 4: Full Governing Board and Committee Meetings

Nominations Committee: Closed Session: 7:30 a.m. to 8:15 a.m.

Full Governing Board: Closed Session: 8:30 a.m. to 8:45 a.m.; Open Session: 8:30 a.m. to 12:00 p.m.

On Thursday, August 2, 2018, the ADC will meet in open session from 9:00 a.m. to 9:15 a.m. for opening remarks and a review of the committee agenda, followed by a closed session meeting from 9:15 a.m. to 12:05 p.m. During the closed session, ADC will receive a briefing on the secure item pool for the NAEP Mathematics Assessment and review secure cognitive and contextual items for the NAEP Assessments in Reading, Writing, Mathematics, and Science. This meeting must be conducted in closed session because the test items and data are secure and have not been released to the public. Public disclosure of the secure test items would significantly impede implementation of the NAEP assessment program if conducted in open session. Such matters are protected by exemption 9(B) of § 552b(c) of Title 5 of the United States Code.

On Thursday, August 3, 2018, the Ad Hoc Committee on Measures of Postsecondary Preparedness will meet in open session from 1:30 p.m. to 4:00 p.m. Thereafter, from 4:00 p.m. to 5:00 p.m. a Poster Gallery session will provide a spotlight on NAEP Secondary Research.

The Executive Committee will then convene in open session from 5:00 p.m. to 5:15 p.m. followed by a closed session from 5:15 p.m. to 6:00 p.m. During the closed session, the Executive Committee will receive and discuss cost estimates and implications for implementing NAEP's Assessment Schedule for 2014-2024. The first session of this closed meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C. Following this closed session, the second session of the closed meeting is being held to receive a briefing from Terry Mazany, Chair of the Search Committee for the Executive Director on the status of the search process.

On Friday, August 3, 2018, the Governing Board will meet in open session from 8:30 a.m. to 10:15 a.m. The Governing Board will review and approve the August 2-4, 2018 Governing Board meeting agenda and meeting minutes from the May 2018 Quarterly Board Meeting from 8:30 a.m. to 8:40 a.m. Thereafter, from 8:40 a.m. to 9:00 a.m. the Governing Board's Executive Director, Bill Bushaw will provide an annual report on progress made in implementing the Governing Board's Strategic Vision. From 9:00 a.m. to 9:15 a.m., the standing committee chairs will provide a preview of the agenda items for the committee meetings. At 9:15 a.m., the Governing Board will recess for a 15 minute break. Thereafter, committee meetings will take place from 9:30 a.m. to 12:00 p.m.

On Friday, August 3, 2018, the Reporting and Dissemination Committee will meet in open session from 9:30 a.m. to 12:00 p.m. ADC will meet in closed session from 9:30 a.m. to 11:20 a.m. to address two agenda items. For the first agenda item, ADC will complete the review of secure cognitive and contextual items for the NAEP Assessments in Reading, Writing, Mathematics, and Science. For the second agenda item, ADC will receive a briefing on secure test items and data for NAEP Assessments in Civics, Geography, and U.S. History. This meeting must be conducted in closed session because the test items and data are secure and have not been released to the public. Public disclosure of the secure test items would significantly impede implementation of the NAEP assessment program if conducted in open session. Such matters are protected by exemption 9(B) of § 552b(c) of Title 5 of the United States Code. Following the closed sessions, ADC will meet in open session from 11:20 a.m. to 12:00 p.m.

On Friday, August 3, 2018, COSDAM will meet in open session from 9:30 a.m. to 11:10 a.m. followed by a closed session from 11:10 a.m. to 12:00 p.m. During the closed session, COSDAM will discuss information regarding analyses of secure 2017 NAEP writing assessment data. This part of the meeting must be conducted in closed session because the secure writing data has not been released to the public. Public disclosure of the data would significantly impede implementation of the NAEP assessment program if conducted in open session. Such matters are protected by exemption 9(B) of § 552b(c) of Title 5 of the United States Code.

The Governing Board will meet in closed session from 12:15 p.m. to 1:30 p.m. during a working lunch to discuss the NAEP budget implications of implementing the Board's priorities for extending the NAEP Assessment Schedule beyond the year 2024. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

On Friday, August 3, 2018 from 1:30 p.m. to 2:30 p.m. the Board will meet in open session to receive an update on the NAEP Mathematics Framework followed by a full Board member discussion. From 2:30 p.m. to 3:00 p.m. Mr. Terry Mazany, Chair of the Ad Hoc Committee on Measures of Postsecondary Preparedness will provide an overview of the Ad Hoc Committee's draft recommendations. Following this session, the Board will take a 15 minute break and reconvene in open session from 3:15 p.m. to 4:15 p.m. in small groups to discuss draft the Ad Hoc Committee's recommendations. Thereafter, the Board will recess for a 15 minute break and convene at 4:30 p.m. to discuss takeaways from the small group discussions on the Ad Hoc Committee recommendations. The breakout sessions will conclude at 5:00 p.m.

The August 3, 2018 session of the Governing Board meeting will adjourn at 5:00 p.m.

On Saturday, August 4, 2018, the Nominations Committee will meet in closed session from 7:30 a.m. to 8:15 a.m. The Committee will provide updates on nominees for Governing Board vacancies for terms beginning October 1, 2018 and provide updates on plans to open the nominations cycle for Board vacancies for terms beginning October 1, 2019. The Nominations Committee's discussions pertain solely to internal personnel rules and practices of an agency and information of a personal nature where disclosure would constitute a clearly unwarranted invasion of personal privacy. As such, the discussions are protected by exemptions 2 and 6 of § 552b(c) of Title 5 of the United States Code.

On August 4, 2018, the Governing Board will convene in closed session from 8:30 a.m. to 8:45 a.m. to receive a briefing from Terry Mazany, Chair of the Search Committee for the Executive Director on the status of the search process and make decisions on the next steps for the hiring process. These discussions pertain solely to internal personnel rules and practices of an agency and information of a personal nature where disclosure would constitute a clearly unwarranted invasion of personal privacy. As such, the discussions are protected by exemptions 2 and 6 of § 552b(c) of Title 5 of the United States Code.

Following the closed session, the Governing Board will meet in open session from 8:30 a.m. to 9:30 a.m. to receive a briefing on the NAEP Assessment Schedule with a focus on Social Studies. This briefing will be led by Sharyn Rosenberg, Governing Board staff and Eunice Greer, NCES staff.

From 9:30 a.m. to 10:00 a.m. the Ad Hoc Committee Chair, Terry Mazany will provide additional reflections on the Ad Hoc Committee's recommendations on Post-Secondary Preparedness. The Governing Board will then receive reports from its standing committees from 10:00 a.m. to 10:30 a.m. Following a 15 minute break, the Board will receive a briefing and engage in discussion on the NAEP Achievement Levels Setting Policy led by Andrew Ho, COSDAM Chair. From 11:30 a.m. to 12:00 p.m. retiring Governing Board's Executive Director Bill Bushaw will provide remarks.

The August 4, 2018 session of the board meeting will adjourn at 12:00 p.m.

Access to Records of the Meeting: Pursuant to FACA requirements, the public may also inspect the meeting materials at www.nagb.gov beginning on Thursday, August 2, 2018, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Dated: July 20, 2018.
William Bushaw,
Executive Director, National Assessment Governing Board (NAGB), U.S. Department of Education.

[FR Doc. 2018-15887 Filed 7-24-18; 8:45 am]

BILLING CODE P